DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 27, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program: Demonstration Projects.

OMB Control Number: 0584-NEW.

Summary of Collection: This information collection is for activities associated with SNAP demonstration projects and the SNAP State Options Report, respectively. Demonstration projects are pilot or experimental projects that waive requirements of the Food and Nutrition Act of 2008 (the Act) (7 U.S.C. 2011 et seq.) and SNAP regulations to test program changes to increase efficiency and improve the delivery of benefits to eligible households. Section 17(b) of the Act authorizes the Food and Nutrition Service (FNS) to approve demonstration projects. SNAP State agencies must request approval to operate demonstration projects and submit data reports to evaluate its impact. FNS may approve demonstration projects for a maximum five-year term and the projects must maintain cost neutrality and include an evaluation component. The SNAP State Options Report summarizes each State agency's policy choices concerning approximately 20 SNAP policy options and waivers. FNS produces the report on an annual basis and posts it on its public website.

Need and Use of the Information: State agencies voluntarily conduct demonstration projects that waive any requirements of the Act and any SNAP regulations to test program changes to improve program administration, increase the self-sufficiency of SNAP recipients, or improve the delivery of benefits to eligible households.

To operate a demonstration project, State agencies must prepare and submit new project requests, project modifications, and project renewal requests to FNS for approval. After review, FNS may issue a demonstration project approval, outlining the terms and conditions of the demonstration project. States must also prepare and submit data reports as part of the evaluation component to measure the project's intended outcomes and benefits.

State agencies must complete and submit new, modification, and extension requests in the SNAP Waiver Information Management System (WIMS). FNS uses the information provided by State agencies to evaluate and determine whether to approve or deny the demonstration project.

After the demonstration project is approved, State agencies must submit data reports to assess the project's overall performance. Data report requirements are detailed in the evaluation section of the demonstration project approval and may include, but is not limited to, selecting a case sample, conducting case reviews, and validating the findings. States complete demonstration project data reports using a combination of caseload-level data, SNAP Quality Control (QC) case review data, and, if needed, additional case reviews of client circumstances. Additional case reviews may be necessary if the minimum sample size for statistical analysis is not met through other means and involves a State reaching out to a household using the QC review process.

Annual reports allow FNS to monitor demonstration project trends such as average caseload size, demographic data (e.g., older adults and people with disabilities) of the population participating in the demonstration project, timeliness, and payment error rates. Cost neutrality reports ensure that the implementation of a demonstration project does not significantly increase SNAP benefit costs. FNS must analyze program costs associated with demonstration projects to determine if any offsets are needed to protect Federal spending and maintain cost neutrality as required by OMB Memorandum 05-13.

Description of Respondents: States.

Number of Respondents: 6,330.

Frequency of Responses: Reporting: Occasionally; Annually.

Total Burden Hours: 19,797.

Rachelle Ragland-Greene,
Departmental Information Collection Clearance Officer.

[FR Doc. 2024-30643 Filed 12-23-24; 8:45 am]

BILLING CODE 3410-30-P